OVERSEAS PRIVATE INVESTMENT CORPORATION

Submission for OMB Review; Comment Request

AGENCY: Overseas Private Investment Corporation.

ACTION: Request for comments.

SUMMARY: Under the provisions of the Paperwork Reduction Act (44 U.S.C. Chapter 35), agencies are required to publish a Notice in the Federal Register notifying the public that the Agency is preparing an information collection request for OMB review and approval and to request public review and comment on the submission. Comments are being solicited on the need for the information, its practical utility, the accuracy of the Agency's burden estimate, and on ways to minimize the reporting burden, including automated collection techniques and uses of other forms of technology. The proposed form under review is summarized below.

DATES: Comments must be received within 60 calendar days of publication of this Notice.

ADDRESSES: Copies of the subject form and the request for review prepared for submission to OMB may be obtained from the Agency Submitting Officer. Comments on the form should be submitted to the Agency Submitting Officer.

FOR FURTHER INFORMATION CONTACT:

OPIC Agency Submitting Officer: Bruce I. Campbell, Records Manager, Overseas Private Investment Corporation, 1100 New York Avenue, NW., Washington, DC 20527, (202) 336-8563.

Summary of Form Under Review

Type of Request: Form Renewal.

Title: Sponsor Disclosure Report.

Form Number: OPIC-129.

Frequency of Use: Once per major sponsor, per project.

Type of Respondents: Business or other institutions.

Standard Industrial Classification Codes: All.

Description of Affected Public: U.S. companies sponsoring projects overseas.

Reporting Hours: 5 hour per project.

Number of Responses; 150 per year.

Federal Cost: $12,730 per year.

Authority for Information Collection: Sections 231 and 234(a) of the Foreign Assistance Act of 1961, as amended.

Abstract (Needs and Uses): The OPIC 129 form is the principal document used by OPIC to gather information from project sponsors on whether a project might harm the U.S., a describes sponsor activities with the U.S. Government and other information for underwriting an analysis of a project.

Dated: December 30, 2002.
Eli Landy,
Senior Counsel, Administrative Affairs, Department of Legal Affairs.

[FR Doc. 03-816 Filed 1-14-03; 8:45 am]

BILLING CODE 3210-01-M